DEPARTMENT OF JUSTICE

Antitrust Division

Notice Pursuant to the National Cooperative Research and Production Act of 1993—Health Product Declaration Collaborative, Inc.

Notice is hereby given that, on February 12, 2013, pursuant to Section 6(a) of the National Cooperative Research and Production Act of 1993, 15 U.S.C. 4301 et seq. (“the Act”), Health Product Declaration Collaborative, Inc. (“HPDC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Crystal Frost (individual member), Salt Lake City, UT; Lisa Britton (individual member), Minneapolis, MN; Aaron Smith (individual member), New Haven, CT; Mike Manzi (individual member), Portland, OR; Amy Running (individual member), Portland, OR; Nadav Malin (individual member), Brattleboro, VT; Rand Ekman (individual member), Chicago, IL; Dennis Wilson (individual member), Valley Forge, PA; Aman Desouza (individual member), Valley Forge, PA; Gail Vittori (individual member), Austin, TX; Ted van der Linden (individual member), Falls Church, VA; Scott Day (individual member), Hazleton, PA; Erica Godun (individual member), New York, NY; Martin Grohman (individual member), Wayne, NJ; Kristen Ritchie (individual member), San Francisco, CA; Anthony Brower (individual member), Los Angeles, CA; Anthony Ravitz (individual member), Mountain View, CA; Sharon Refvem (individual member), Mountain View, CA; Steven Kooy (individual member), Holland, MI; Jean Hansen (individual member), San Francisco, CA; Bill Walsh (individual member), Washington, DC; Nancy Hulsey (individual member), Dallas, TX; Susan Kaplan (individual member), New York, NY; Mary Ann Lazarus (individual member), St. Louis, MO; Evan Bane (individual member), Muskego, WI; Mikhail Davis (individual member), San Francisco, CA; Julie Hendricks (individual member), Houston, TX; Megan Koehler (individual member), San Francisco, CA; Mary Davidge (individual member), Los Gatos, CA; Thomas J. Nelson (individual member), Seattle, WA; Sophia Cavalli (individual member), Portland, OR; Margaret Montgomery (individual member), Seattle, WA; Peter Syrett (individual member), New York, NY; Dwayne Fuhlhage (individual member), Lawrence, KS; Lance Hosey (individual member), Washington, DC; Kelly Farrell (individual member), Los Angeles, CA; Priya Premchandran (individual member), Portland, OR; Troy Virgo (individual member), Calhoun, GA; Elizabeth Heider (individual member), Washington, DC; Luke Leung (individual member), Chicago, IL; Martin Flaherty (individual member), Atlanta, GA; Russell Perry (individual member), Washington, DC; Matt McMonagle (individual member), San Clemente, CA; Lynn Preston (individual member), Dalton, GA; Tracy Backus (individual member), Mount Laurel, NJ; Amanda Kaminsky (individual member), New York, NY; Michael Deane (individual member), New York, NY; N'Nekka Butler (individual member), Washington, DC; Pauline Souza (individual member), San Francisco, CA; Eric Raff (individual member), Milpitas, CA; Doug Sams (individual member), Portland, OR; Beth Stroshane (individual member), Seattle, WA; Christopher R Schaffner (individual member), Concord, MA; Holly Debrodt (individual member), Portland, OR; Justin M. Hardy (individual member), New York, NY; Marion J. White (individual member), San Jose, CA; Anna Bevan (individual member), Royersford, PA; and Michel Couvreux (individual member), Petaluma, CA.

The Joint Venture was formed as a Delaware non-stock member corporation. The general area of HPDC's planned activities are to develop, maintain and evolve the Healthy Product Declaration format (the “HPD Standard”) as an open standard that meets the needs of building product consumers for reporting of product content and associated health information relating to individual building products and materials. In pursuit of this purpose, the Joint Venture may engage in all or some of the following activities: (a) Develop, maintain and support the HPD Standard and related standards (the “Specifications”); (b) promote such Specifications and solutions worldwide; (c) provide for testing and conformity assessment of implementations in order to ensure and/or facilitate compliance with Specifications; (d) operate a branding program based upon distinctive trademarks to create high customer awareness of, demand for, and confidence in products designed in compliance with Specifications; and (e) undertake such other activities as may from time to time be appropriate to further the purposes and achieve the goals set forth above.

Membership in the Joint Venture remains open and the Joint Venture intends to file additional written notifications disclosing all changes in membership.

Patricia A. Brink,
Director of Civil Enforcement, Antitrust Division.

[FR Doc. 2013-05312 Filed 3-6-13; 8:45 am]

BILLING CODE P